DEPARTMENT OF LABOR

Office of the Secretary

Submission for OMB Review; Comment Request

March 17, 2005.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Placement Verification and follow-up of Job Corps Participants.

OMB Number: 1205-0426.

Frequency: On occasion; Other (1-3 times).

Affected Public: Individuals or households; Business or other for-profit.

Number of Respondents: 77,507.

Number of Annual Responses: 77,507.

Total Burden Hours: 16,483.

Estimated Time Per Response: 10 to 15 minutes.

Estimated Time Per Response:

Respondent category | Number of respondents | Average time (hours) per respondent | Estimated hours
Placed Former Enrollees at 90 days | 1,815 | 0.25 | 454
Placed Graduates at 90-120 days | 22,720 | 0.25 | 5,680
Placed Graduates at Six Months | 23,360 | 0.20 | 4,672
Placed Graduates at 12 Months | 21,440 | 0.20 | 4,288
Employer/Institution Re-Verification | 8,172 | 0.17 | 1,389
Total | 77,507 |  | 16,483

Burden Hours: 16,483.

Total annualized capital/startup costs: $0.

Total annual costs (operating/maintaining systems or purchasing services): $0.

Description: This submission requests approval of three primary and two secondary data collection instruments that will be used to collect follow-up data on individuals who are no longer actively participating in Job Corps. The instruments are comprised of modules that include questions designed to obtain the following information: re-verification of initial job and/or school placements; employment and educational experiences; job search activities of those who are neither working nor in school; information about former participants' satisfaction with the services provided by Job Corps, and confirmation of contact information for purposes of further follow-up. The secondary instruments are used to secure placement verification from employers and educational institutions when the individuals cannot be contacted directly.

Ira L. Mills,
Departmental Clearance Officer/Team Leader.

[FR Doc. 05-5803 Filed 3-23-05; 8:45 am]

BILLING CODE 4510-26-P